ENVIRONMENTAL PROTECTION AGENCY

40 CFR Part 52

[EPA-R05-OAR-2010-0037; FRL-10004-62-Region 5]

Air Plan Approval; Minnesota; Revision to Taconite Federal Implementation Plan

AGENCY: Environmental Protection Agency (EPA).

ACTION: Proposed rule.

SUMMARY: The Environmental Protection Agency (EPA) is proposing revisions to a Federal implementation plan (FIP) addressing the requirement for best available retrofit technology (BART) for the United States Steel Corporation's (U.S. Steel) taconite plant located in Mt. Iron, Minnesota (Minntac or Minntac facility). We are proposing to revise the nitrogen oxides (NOX) limits for U.S. Steel's taconite furnaces at its Minntac facility because new information has come to light that was not available when we originally promulgated the FIP on February 6, 2013. The EPA is proposing this action pursuant to sections 110 and 169A of the Clean Air Act (CAA).

DATES: Comments must be received on or before March 5, 2020.

ADDRESSES: Submit your comments, identified by Docket ID No. EPA-R05-OAR-2010-0037 at http://www.regulations.gov or via email to aburano.douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the “For Further Information Contact” section. For the full EPA public comment policy, information about CBI or multimedia submissions, and general guidance on making effective comments, please visit http://www2.epa.gov/dockets/commenting-epa-dockets.

FOR FURTHER INFORMATION CONTACT: Kathleen D'Agostino, Environmental Scientist, Attainment Planning & Maintenance Section, Air Programs Branch (AR-18J), U.S. Environmental Protection Agency, Region 5, 77 West Jackson Boulevard, Chicago, Illinois 60604, (312) 886-1767, dagostino.kathleen@epa.gov.

SUPPLEMENTARY INFORMATION: Throughout this document whenever “we,” “us,” or “our” is used, we mean EPA.

I. What action is EPA taking?

On February 6, 2013, EPA promulgated a FIP that included BART limits for certain taconite furnaces in Minnesota and Michigan (2013 Taconite FIP; 78 FR 8706). EPA is proposing to revise the 2013 Taconite FIP with respect to the NOX BART emission limitations and compliance schedules for U.S. Steel's Minntac facility in Minnesota.

II. Background

A. Requirements of the Clean Air Act and EPA's Regional Haze Rule

In section 169A of the 1977 Amendments to the CAA, Congress created a program for protecting visibility in the nation's national parks and wilderness areas. This section of the CAA establishes as a national goal the “prevention of any future, and the remedying of any existing, impairment of visibility in mandatory Class I Federal areas ¹ which impairment results from manmade air pollution.” Congress added section 169B to the CAA in 1990 to address regional haze issues. EPA promulgated a rule to address regional haze on July 1, 1999. 64 FR 35714 (July 1, 1999), codified at 40 CFR part 51, subpart P (herein after referred to as the “Regional Haze Rule”). The Regional Haze Rule codified and clarified the BART provisions in the CAA and revised the existing visibility regulations to add provisions addressing regional haze impairment and to establish a comprehensive visibility protection program for Class I areas. The requirements for regional haze, found at 40 CFR 51.308 and 51.309, are included in EPA's visibility protection regulations at 40 CFR part 51, subpart P.

¹ Areas designated as mandatory Class I Federal areas consist of national parks exceeding 6000 acres, wilderness areas and national memorial parks exceeding 5000 acres, and all international parks that were in existence on August 7, 1977. 42 U.S.C. 7472(a). In accordance with section 169A of the CAA, EPA, in consultation with the Department of Interior, promulgated a list of 156 areas where visibility is identified as an important value. 44 FR 69122 (November 30, 1979). The extent of a mandatory Class I area includes subsequent changes in boundaries, such as park expansions. 42 U.S.C. 7472(a). Although states and tribes may designate as Class I additional areas which they consider to have visibility as an important value, the requirements of the visibility program set forth in section 169A of the CAA apply only to “mandatory Class I Federal areas.” Each mandatory Class I Federal area is the responsibility of a “Federal Land Manager.” 42 U.S.C. 7602(i). When we use the term “Class I area” in this action, we mean a “mandatory Class I Federal area.”

Section 169A of the CAA directs states, or EPA if developing a FIP, to evaluate the use of retrofit controls at certain larger, often uncontrolled, older stationary sources to address visibility impacts from these sources. Specifically, section 169A(b)(2)(A) of the CAA requires that implementation plans contain such measures as may be necessary to make reasonable progress toward the natural visibility goal, including a requirement that certain categories of existing major stationary sources ² built between 1962 and 1977 procure, install, and operate BART as determined by EPA.

² The set of “major stationary sources” potentially subject to BART is listed in CAA section 169A(g)(7) and includes “taconite ore processing facilities.”

Under the Regional Haze Rule, states (or in the case of a FIP, EPA) are directed to conduct BART determinations for such “BART-eligible” sources that may reasonably be anticipated to cause or contribute to any visibility impairment in a Class I area.

On July 6, 2005, EPA published the Guidelines for BART Determinations Under the Regional Haze Rule at appendix Y to 40 CFR part 51 (hereinafter referred to as the “BART Guidelines”) to assist states and EPA in determining which sources should be subject to the BART requirements and in determining appropriate emission limits for each source subject to BART. 70 FR 39104.

The process of establishing BART emission limitations follows three steps. First, states, or EPA if developing a FIP, must identify and list “BART-eligible sources.” ³ Once the state or EPA has identified the BART-eligible sources, the second step is to identify those sources that may “emit any air pollutant which may reasonably be anticipated to cause or contribute to any impairment of visibility” in a Class I area (Under the Regional Haze Rule, a source which fits this description is “subject to BART.”). Third, for each source subject to BART, the state or EPA must identify the level of control representing BART after considering the five factors set forth in CAA section 169A(g). The BART Guidelines provide a process for making BART determinations that states can use in implementing the BART requirements on a source-by-source basis. See 40 CFR part 51, appendix Y, at IV.D.

³ “BART-eligible sources” are those sources that have the potential to emit 250 tons or more of a visibility-impairing air pollutant, were not in operation prior to August 7, 1962, but were in existence on August 7, 1977, and whose operations fall within one or more of 26 specifically listed source categories. 40 CFR 51.301.

States, or EPA if developing a FIP, must address all visibility-impairing pollutants emitted by a source in the BART determination process. The most significant visibility impairing pollutants are SO2, NOX, and particulate matter (PM).

A state implementation plan (SIP) or FIP addressing regional haze must include source-specific BART emission limits and compliance schedules for each source subject to BART. Once a state or EPA has made a BART determination, the BART controls must be installed and operated as expeditiously as practicable, but no later than five years after the date of the final SIP or FIP. See CAA section 169A(g)(4) and 40 CFR 51.308(e)(1)(iv). In addition to what is required by the Regional Haze Rule, general SIP requirements mandate that the SIP or FIP include all regulatory requirements related to monitoring, recordkeeping, and reporting for the BART controls on the source. See CAA section 110(a).

B. BART for U.S. Steel's Minntac Facility

On February 6, 2013, EPA promulgated a FIP (78 FR 8706) that included NOX BART limits for taconite furnaces subject to BART in Minnesota and Michigan. EPA took this action because Minnesota and Michigan had failed to meet a statutory deadline to submit their Regional Haze SIPs and subsequently failed to require BART at the taconite facilities. The FIP established BART NOX limits of 1.2 lbs NOX per million British Thermal Unit (MMBTU) when burning natural gas and 1.5 lbs NOX/MMBTU when co-firing coal and natural gas. These limits were based upon the performance of high stoichiometric (high-stoich) low-NOX burners (LNBs) ⁴ at two of the taconite furnaces at U.S. Steel's Minntac facility.

⁴ Stoichiometry refers to the relationship between the actual quantity of combustion air to the theoretical minimum quantity of air needed for 100 percent combustion of the fuel.

III. Basis for Revised NOX BART Limits for Minntac

The NOX BART limits for taconite furnaces in the 2013 FIP were based upon U.S. Steel's experience to date with LNBs on Minntac Lines 6 and 7, as well as an expectation that NOX emissions would be higher when burning coal because of the nitrogen content of coal. Since that time, U.S. Steel has collected additional continuous emissions monitoring system (CEMS) data and has experience operating LNBs on four of its five lines, Minntac Lines 4-7.

While U.S. Steel's experience has confirmed that LNBs are a technically feasible control technology for reducing NOX emissions at taconite furnaces, and thus are the appropriate control technology for establishing BART limits, the emissions data generated through subsequent use of LNBs at Minntac indicate that LNB technology cannot consistently achieve the same results on all taconite furnaces while operating under various production scenarios and maintaining pellet quality.⁵

⁵ See Minntac CEMS Data and Analysis, available in the docket for this action.

The CEMS data also showed that NOX emissions are actually lower when burning coal or a mixture of coal and natural gas than when burning only natural gas. Further, the CEMS data showed that U.S. Steel has been moving toward using natural gas rather than burning coal or co-firing. Lines 6 and 7 at Minntac are the only lines that can burn coal or a mixture of coal and natural gas. Over the six years of CEMS data evaluated, the use of natural gas has increased dramatically, from 15% to 97% of total operating hours on the two lines.⁶ Given the trajectory of fuel markets, EPA has no reason to believe that U.S. Steel will not continue to use natural gas at Minntac.

⁶ See id.

Given the new CEMS data and trend toward primarily burning natural gas, U.S. Steel found that a revised NOX BART limit at Minntac of 1.6 lbs/MMBTU averaged over 30 days and across all five of its lines is the most stringent limit that can be met while maintaining pellet quality, based upon its experience operating LNBs under various production scenarios.⁷ To justify this limit, U.S. Steel provided EPA with hourly NOX emissions data in lbs/MMBTU documenting actual emissions levels after installation of LNB technology on Minntac Lines 4-7.⁸ U.S. Steel also provided hourly NOX emissions data in lbs/MMBTU for Line 3, which has not yet installed LNB technology. Because the NOX limits in the 2013 FIP were based on a rolling 30-day average, EPA evaluated the 720-hour average⁹ NOX emissions levels achieved by each line when burning natural gas. Averaging these NOX emissions levels across Lines 4-7 resulted in an emission rate of 1.6 lbs NOX/MMBTU based on a 720-hour rolling average. Because of Line 3's similarity to Line 4, Line 3's performance (after an LNB is installed) is expected to be consistent with and have the same emission rate as Line 4. Averaging the NOX emission levels across Lines 3-7 while assuming this level of LNB performance on Line 3 also resulted in an emission rate of 1.6 lbs NOX/MMBTU based on a 720-hour rolling average.

⁷ U.S. Steel Confidential Settlement Communication, May 1, 2018.

⁸ See Minntac CEMS Data and Analysis, available in the docket for this action.

⁹ Hourly NOX emissions data was available, which allowed for the separation of hours when burning natural gas from hours when burning coal or co-firing. Since there are 720 hours in a 30-day period, a 720-hour average was used to calculate NOX emissions when burning only natural gas.

Based on this new information, EPA is proposing to replace the NOX BART emission limits that currently apply to Minntac Lines 3-7 with a single facility-wide NOX BART limit of 1.6 lbs MMBTU that will apply on a rolling 30-day basis. Under the BART Guidelines, a source may be permitted to “average” emissions across a set of BART-eligible emission units within a fenceline, so long as the emission reductions from each pollutant being controlled for BART would be equal to those reductions that would be obtained by simply controlling each of the BART-eligible units that constitute BART-eligible sources. See 40 CFR part 51, appendix Y, at V. In this case, given the unique issues U.S. Steel faced in trying to comply with the individual limits in the 2013 FIP, EPA has determined that it is appropriate to provide U.S. Steel with this additional flexibility. EPA is confident that allowing U.S. Steel to average NOX emissions levels across Minntac Lines 3-7 will achieve NOX emission reductions equal to the reductions that would have been obtained had EPA revised the individual limits for Minntac Lines 3-7 separately.

In conclusion, a review of U.S. Steel's recent CEMS data when using primarily natural gas indicates that a limit of 1.6 lbs/MMBTU, averaged across all lines, is needed to operate under varying production scenarios while maintaining adequate pellet quality. Therefore, EPA is proposing that a limit of 1.6 lbs NOX/MMBTU, averaged across all lines and over 30 days, represents NOX BART for U.S. Steel's Minntac facility.

IV. CAA Section 110(l)

Under CAA section 110(l), the EPA cannot approve a plan revision “if the revision would interfere with any applicable requirement concerning attainment and reasonable further progress (as defined in section 7501 of this title), or any other applicable requirement of this chapter.” ¹⁰ We propose to find that these revisions satisfy section 110(l). The previous sections of the notice explain how the proposed FIP revision will comply with applicable regional haze requirements and general implementation plan requirements. With respect to requirements concerning attainment of the National Ambient Air Quality Standards (NAAQS) and reasonable further progress, the 2013 Taconite FIP, as revised by this action, will allow for greater NOX emissions at the five subject-to-BART units as compared to the 2013 Taconite FIP. All areas in Minnesota are designated as attainment for all NAAQS with the exception of the Dakota County lead nonattainment area in Eagan, MN. The nearest ozone, particulate matter or nitrogen dioxide nonattainment areas are the ozone nonattainment areas along the western shore of Lake Michigan.¹¹ At the time these areas were designated as nonattainment, EPA evaluated HYSPLIT (HYbrid Single-Particle Lagrangian Integrated Trajectory) trajectories to identify areas potentially contributing to monitored violations of the NAAQS. None of these trajectories indicated that the area near Mt. Iron, Minnesota had the potential to contribute any of the monitored violations of the ozone NAAQS. EPA concludes that all areas impacted by emissions from Minntac are in attainment with the NAAQS. These areas have been able to attain and maintain the standards with emissions levels above the emissions limits that we are proposing to approve. Thus, the revision to the FIP proposed in this action will not interfere with attainment or maintenance of the NAAQS.

¹⁰ Note that “reasonable further progress” as used in CAA section 110(l) is a reference to that term as defined in section 301(a) (i.e., 42 U.S.C. 7501(a)), and as such means reductions required to attain the National Ambient Air Quality Standards (NAAQS) set for criteria pollutants under section 109. This term as used in section 110(l) (and defined in section 301(a)) is not synonymous with “reasonable progress” as that term is used in the regional haze program. Instead, section 110(l) provides that EPA cannot approve plan revisions that interfere with regional haze requirements (including reasonable progress requirements) insofar as they are “other applicable requirement[s]” of the Clean Air Act.

¹¹ The nearest area, Door County, WI, is over 300 miles from Mt. Iron, MN.

V. Statutory and Executive Order Reviews

A. Executive Order 12866: Regulatory Planning and Review

This proposed action is not a “significant regulatory action” under the terms of Executive Order 12866 (58 FR 51735, October 4, 1993) and is therefore not subject to review under Executive Orders 12866 and 13563 (76 FR 3821, January 21, 2011). As discussed in detail in section VI. C below, the proposed FIP is not a rule of general applicability. The proposed FIP only applies to one taconite facility.

B. Paperwork Reduction Act

This proposed action does not impose an information collection burden under the provisions of the Paperwork Reduction Act, 44 U.S.C. 3501 et seq. Under the Paperwork Reduction Act, a “collection of information” is defined as a requirement for “answers to . . . identical reporting or recordkeeping requirements imposed on ten or more persons . . . .” 44 U.S.C. 3502(3)(A). Because the proposed FIP applies to just one facility, the Paperwork Reduction Act does not apply. See 5 CFR 1320(c).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid Office of Management and Budget (OMB) control number. The OMB control numbers for our regulations in 40 CFR are listed in 40 CFR part 9.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's proposed rule on small entities, small entity is defined as: (1) A small business as defined by the Small Business Administration's (SBA) regulations at 13 CFR 121.201; (2) a small governmental jurisdiction that is a government of a city, county, town, school district or special district with a population of less than 50,000; and (3) a small organization that is any not-for-profit enterprise which is independently owned and operated and is not dominant in its field.

After considering the economic impacts of this proposed action on small entities, I certify that this proposed action will not have a significant economic impact on a substantial number of small entities. EPA's proposal revises control requirements at one source. The Regional Haze FIP that EPA is proposing for purposes of the regional haze program consists of imposing Federal control requirements to meet the BART requirement for NOX emissions on specific units at one source in Minnesota. The net result of the FIP action is that EPA is proposing emission controls on the indurating furnaces at one taconite facilities and this sources is not owned by small entities, and therefore is not a small entity.

D. Unfunded Mandates Reform Act (UMRA)

Title II of the Unfunded Mandates Reform Act of 1995 (UMRA), Public Law 104-4, establishes requirements for Federal agencies to assess the effects of their regulatory actions on State, local, and Tribal governments and the private sector. Under section 202 of UMRA, EPA generally must prepare a written statement, including a cost-benefit analysis, for proposed and final rules with “Federal mandates” that may result in expenditures to State, local, and Tribal governments, in the aggregate, or to the private sector, of $100 million or more (adjusted for inflation) in any one year. Before promulgating an EPA rule for which a written statement is needed, section 205 of UMRA generally requires EPA to identify and consider a reasonable number of regulatory alternatives and adopt the least costly, most cost-effective, or least burdensome alternative that achieves the objectives of the rule. The provisions of section 205 of UMRA do not apply when they are inconsistent with applicable law. Moreover, section 205 of UMRA allows EPA to adopt an alternative other than the least costly, most cost-effective, or least burdensome alternative if the Administrator publishes with the final rule an explanation why that alternative was not adopted. Before EPA establishes any regulatory requirements that may significantly or uniquely affect small governments, including Tribal governments, it must have developed under section 203 of UMRA a small government agency plan. The plan must provide for notifying potentially affected small governments, enabling officials of affected small governments to have meaningful and timely input in the development of EPA regulatory proposals with significant Federal intergovernmental mandates, and informing, educating, and advising small governments on compliance with the regulatory requirements.

Under Title II of UMRA, EPA has determined that this proposed rule does not contain a Federal mandate that may result in expenditures that exceed the inflation-adjusted UMRA threshold of $100 million by State, local, or Tribal governments or the private sector in any one year. In addition, this proposed rule does not contain a significant Federal intergovernmental mandate as described by section 203 of UMRA nor does it contain any regulatory requirements that might significantly or uniquely affect small governments.

E. Executive Order 13132: Federalism

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely addresses the State not fully meeting its obligation to prohibit emissions from interfering with other states measures to protect visibility established in the CAA. Thus, Executive Order 13132 does not apply to this action. In the spirit of Executive Order 13132, and consistent with EPA policy to promote communications between EPA and State and local governments, EPA specifically solicits comment on this proposed rule from State and local officials.

F. Executive Order 13175: Consultation and Coordination With Indian Tribal Governments

Executive Order 13175, entitled Consultation and Coordination with Indian Tribal Governments (65 FR 67249, November 9, 2000), requires EPA to develop an accountable process to ensure “meaningful and timely input by tribal officials in the development of regulatory policies that have tribal implications.” This proposed rule does not have tribal implications, as specified in Executive Order 13175. It will not have substantial direct effects on tribal governments. Thus, Executive Order 13175 does not apply to this rule. However, EPA did discuss this action in conference calls with the Minnesota Tribes.

G. Executive Order 13045: Protection of Children From Environmental Health Risks and Safety Risks

Executive Order 13045: Protection of Children from Environmental Health Risks and Safety Risks (62 FR 19885, April 23, 1997), applies to any rule that: (1) Is determined to be economically significant as defined under Executive Order 12866; and (2) concerns an environmental health or safety risk that we have reason to believe may have a disproportionate effect on children. EPA interprets E.O. 13045 as applying only to those regulatory actions that concern health or safety risks, such that the analysis required under section 5-501 of the E.O. has the potential to influence the regulation. This action is not subject to E.O. 13045 because it does not establish an environmental standard intended to mitigate health or safety risks. This proposed action addresses regional haze and visibility protection. Further, because this proposed amendment to the current regulation will require controls that will cost an amount equal to or less than the cost of controls required under the current regulation, it is not an economically significant regulatory action. However, to the extent this proposed rule will limit emissions of NOX, SO2, and PM, the rule will have a beneficial effect on children's health by reducing air pollution.

H. Executive Order 13211: Actions Concerning Regulations That Significantly Affect Energy Supply, Distribution, or Use

This action is not subject to Executive Order 13211 (66 FR 28355 (May 22, 2001)), because it is not a significant regulatory action under Executive Order 12866.

I. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

VCS are inapplicable to this action because application of those requirements would be inconsistent with the CAA.

J. Executive Order 12898: Federal Actions To Address Environmental Justice in Minority Populations and Low-Income Populations

Executive Order 12898 (59 FR 7629, February 16, 1994), establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

We have determined that this proposed rule, if finalized, will not have disproportionately high and adverse human health or environmental effects on minority or low-income populations because it increases the level of environmental protection for all affected populations without having any disproportionately high and adverse human health or environmental effects on any population, including any minority or low-income population.

List of Subjects in 40 CFR Part 52

Environmental protection, Air pollution control, Incorporation by reference, Intergovernmental relations, Nitrogen dioxide, Particulate matter, Reporting and recordkeeping requirements, Sulfur oxides, Volatile organic compounds.

Dated: January 9, 2020.
Cheryl L. Newton,
Acting Regional Administrator, Region 5.

40 CFR part 52 is proposed to be amended as follows:

PART 52—APPROVAL AND PROMULGATION OF IMPLEMENTATION PLANS

1. The authority citation for part 52 continues to read as follows:

Authority: 42 U.S.C. 7401 et seq.

3. In § 52.1235, revise paragraph (b)(1)(iii) to read as follows:

§ 52.1235 Regional haze.

* * * * *

(b)(1) * * *

(iii) United States Steel Corporation, Minntac: An aggregate emission limit of 1.6 lbs NOX/MMBtu, based on a 30-day rolling average, shall apply to the combined NOX emissions from the five indurating furnaces: Line 3(EU225), Line 4(EU261), Line 5(EU282), Line 6(EU315), and Line 7(EU334). To determine the aggregate emission rate, the combined NOX emissions from lines 3, 4, 5, 6 and 7 shall be divided by the total heat input to the five lines (in MMBTU) during every rolling 30-day period commencing either upon notification of a starting date by United States Steel Corporation, Minntac, or with the 30-day period from September 1, 2019 to September 30, 2019, whichever occurs first. The aggregate emission rate shall subsequently be determined on each day, 30 days after the starting date contained in such notification or September 30, 2019, whichever occurs first.

* * * * *

[FR Doc. 2020-01321 Filed 2-3-20; 8:45 am]

BILLING CODE 6560-50-P